DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, FEMA, 500 C Street, SW., Washington, DC 20472, (202) 646-2903.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 13132, Federalism

This rule involves no policies that have federalism implications under Executive Order 13132.

Executive Order 12988, Civil Justice Reform

This rule meets the applicable standards of Executive Order 12988.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground *Elevation in feet (NGVD) • Elevation in feet (NAVD)
FLORIDA
Alachua County (FEMA Docket No. D-7636)
Little Hatchet Creek:
Approximately 0.59 mile upstream of the entrance to Gum Root Swamp | •85
Approximately 4,400 feet upstream of the entrance to Gum Root Swamp | •89
Alachua County (Unincorporated Areas)
Little Monteocha Creek:
At the confluence with Monteocha Creek | •102
Approximately 100 feet upstream of County Route 340 | •135
Monteocha Creek:
Approximately 1,700 feet upstream of the confluence with Santa Fe River | •94
Approximately 2.48 miles upstream of County Route 340 | •160
Rhuda Branch:
At the confluence with Sunshine Lake | •91
Approximately 440 feet upstream of County Route 231 | •136
Rocky Creek:
Approximately 1,220 feet upstream of the Santa Fe River | •85
Approximately 1.74 miles upstream of County Route 329 | •174
Rocky Creek Tributary:
At the confluence with Rocky Creek | •114
Approximately 1.48 miles upstream of the confluence with Rocky Creek | •139
Grass Prairie | •64
Ledwith Lake | •69
Levy Lake East | •65
Lochloosa Lake | •61
Mud Pond | •71
Orange Lake | •61
Sunshine Lake | •89
Unnamed Lake West of Sunshine Lake:
Approximately 1,500 feet south of the intersection of State Highway 235 and State Highway 329 | •95
Kanapaha Prairie | •64
Little Montechoa Creek Diversion:
At the confluence with Little Montechoa Creek | •107
Divergence from Little Montechoa Creek | •122
Little Montechoa Creek Diversion Tributary:
At the confluence with Little Montechoa Creek Diversion | •108
Approximately 100 feet upstream of County Road 31A | •110
Levy Lake West | •65
Levy Lake North | •65
Kanapaha Sink | •64
Unnamed flooding area between Levy Lake and Ledwith Lake:
Connecting channel between Levy Lake East and Ledwith Lake | #1
Unnamed Pond West of Ledwith Lake:
Approximately 0.96 mile west of Ledwith Lake on the Marion County boundary | •76
Unnamed Pond North of Mud Pond:
Approximately 1,400 feet north of Mud Pond | •67
Unnamed Ponding Area No. 1 South Levy Lake West:
Approximately 1,000 feet south of Levy Lake West | •65
Unnamed Ponding Area No. 2 South of Levy Lake West:
Approximately 2,000 feet south of Levy Lake West | •66
Hogtown Creek Tributary 1:
Approximately 400 feet downstream of Northwest 53rd Avenue | •155
Approximately 300 feet upstream of Northwest 53rd Avenue | •167
City of Gainesville
Alachua County (Unincorporated Areas)
Maps available for inspection at the Alachua County Department of Public Works, 5620 Northwest 120th Lane, Gainesville, Florida.
City of Gainesville
Maps available for inspection at the City of Gainesville Department of Public Works, 306 Northeast 6th Avenue, Gainesville, Florida.
NORTH CAROLINA
Brunswick County (FEMA Docket Nos. D-7578 and D-7616)
Allen Creek:
At the confluence with McKinzie Pond | • 9
Approximately 675 feet downstream of West Boiling Spring Road | • 50
Brunswick County (Unincorporated Areas), City of Boiling Spring Lakes
Alligator Branch:
At the confluence with Hood Creek | • 19
Approximately 0.5 mile downstream of Interstate 74/76 | • 60
Alligator Swamp:
At confluence with Juniper Creek | • 39
Approximately 3.7 miles upstream of Alligator Road Northwest | • 57
Atlantic Ocean:
Approximately 1,000 feet southeast of the intersection of Heritage Drive Southwest and NC-179 | • 14
Approximately 200 feet south of the intersection of Goldsboro Street and 1st Street | • 21
Brunswick County (Unincorporated Areas), Towns of Sunset Beach, Ocean Isle Beach, Holden Beach
Atlantic Ocean:
Approximately 500 feet south of the intersection of Southeast 52nd Street and East Pelican Drive in the Town of Oak Island | • 21
Along Bay Creek at the confluence with Deer Creek | • 14
Brunswick County (Unincorporated Areas), Town of Caswell Beach, Village of Bald Head Island, Town of Oak Island
Batarora Branch:
At the confluence with Hood Creek | • 31
Approximately 1,500 feet upstream of NC Highway 87 | • 36
Brunswick County (Unincorporated Areas)
Batarora Branch Tributary:
At the confluence with Batarora Branch | • 36
Approximately 1.3 miles upstream of the confluence with Batarora Branch | • 59
Bay Branch:
At the confluence with Alligator Swamp | • 43
Approximately 0.5 mile upstream of Exum Road Northwest | • 50
Bear Branch:
At the confluence with Waccamaw River | • 31
Approximately 0.5 mile upstream of Project Road Northwest | • 57
Bear Pen Island Swamp:
At the confluence with Juniper Creek | • 45
At downstream side of Green Swamp Road Northwest | • 61
Beaverdam Creek (near Henrytown):
At the confluence with Town Creek | • 12
Approximately 1.5 miles upstream of Town Creek Road Northeast | • 66
Beaverdam Creek (near Southport):
Approximately 1.0 mile upstream of the confluence with Intracoastal Waterway | • 11
At the confluence with Beaverdam Swamp | • 12
Brunswick County (Unincorporated Areas), Town of St. James
Beaverdam Swamp:
At the confluence with Beaverdam Creek (near Southport) | • 12
Approximately 1,650 feet upstream of Committee Drive Southeast | • 46
Beaverdam Swamp:
At the confluence with Royal Oak Swamp | • 12
Approximately 1.5 miles upstream of Landfill Road Northeast | • 35
Brunswick County (Unincorporated Areas)
Beaverdam Swamp Tributary:
At confluence with Beaverdam Swamp | • 12
Approximately 1.7 miles upstream of Middle River Road Northeast | • 40
Bell Swamp:
At the confluence with Mill Creek (near Winnabow) | • 10
Approximately 2.0 miles upstream of Cherrytree Road Northeast | • 52
Bell Swamp:
At the confluence with Alligator Swamp | • 40
Approximately 700 feet upstream of Myrtlehead Road Northwest | • 41
Big Bay Branch:
At the confluence with Middle Swamp | • 25
Approximately 2,000 feet upstream of Danford Road Southeast | • 43
Brunswick County (Unincorporated Areas), Town of Bolivia
Big Bay Branch Tributary:
At the confluence with Big Bay Branch | • 28
Approximately 1,600 feet upstream of Old Ocean Highway | • 47
Bishop Branch:
At the confluence with Morgan Creek | • 9
Approximately 0.3 mile upstream of Pinecliff Drive Northeast | • 63
Brunswick County (Unincorporated Areas), Town of Leland
Boggy Branch:
At the confluence with Red Run | • 30
Approximately 1.5 miles upstream of confluence with Red Run | • 46
Brunswick County (Unincorporated Areas)
Calabash River:
Approximately 1.0 mile upstream of the confluence of Calabash Creek | • 12
Approximately 2.1 miles upstream of the confluence of Calabash Creek | • 16
Brunswick County (Unincorporated Areas), Town of Sunset Beach
Calabash River Tributary:
At the confluence with Calabash River | • 12
Approximately 1,300 feet upstream of Rice Mill Circle Southwest | • 17
Camp Branch (into Alligator Swamp):
At the confluence with Alligator Swamp | •40
Approximately 1,300 feet upstream of Myrtlehead Road Northwest | •41
Brunswick County (Unincorporated Areas)
Camp Branch (into Honey Island Swamp):
At the confluence with Honey Island Swamp | •54
Approximately 2,100 feet upstream of Camp Branch Road Northwest | •59
Cape Fear River:
Approximately 1.1 miles downstream of the intersection of Pender, New Hanover, and Brunswick County boundary | •7
At the Brunswick/Columbus County boundary | •14
Brunswick County (Unincorporated Areas), Town of Navassa
Cawcaw Swamp:
At the confluence with Waccamaw River | •25
Approximately 3.5 miles upstream of Russtown Road Northwest | •61
Brunswick County (Unincorporated Areas)
Cherry Tree Swamp:
At the confluence with Bell Swamp | •27
Approximately 1.4 miles upstream of Cherrytree Road Northeast | •62
Clark Branch:
At the confluence with Lockwoods Folly River | •9
Approximately 500 feet upstream of U.S. Highway 17 Bypass | •25
Cottage Creek:
Approximately 1,000 feet downstream of 9th Street | •10
Approximately 550 feet upstream of 11th Street | •20
Brunswick County (Unincorporated Areas), City of Southport
Daw's Creek:
Approximately 850 feet upstream of the confluence with Town Creek | •9
Approximately 0.9 mile upstream of Daw's Creek Road | •16
Brunswick County (Unincorporated Areas)
Doe Creek:
Approximately 0.2 mile upstream of the confluence of Polly Swain Branch | •13
Approximately 0.8 mile upstream of the confluence of Polly Swain Branch | •19
Dutchman Creek (north of CP&L Canal):
At the confluence with CP&L Canal | •10
Approximately 1.9 miles upstream of 211 | •32
Brunswick County (Unincorporated Areas), City of Southport
Fall Swamp:
At the confluence with Royal Oak Swamp | •17
Approximately 0.9 mile upstream of Makatoka Road Northwest | •55
Brunswick County (Unincorporated Areas)
Gapway Creek: | •45
At the Brunswick/Columbus County boundary
Approximately 2.7 miles upstream of the Brunswick/Columbus County line | •64
Goose Creek:
Approximately 1,200 feet downstream of Bricklanding Road Southwest | •12
Approximately 500 feet upstream of Landing Boulevard Southwest | •17
Governors Creek:
At the confluence with Walden Creek | •8
Approximately 2.3 miles upstream of unnamed road | •8
Harris Swamp:
At the confluence with Mill Creek (near Winnabow) | •11
Approximately 2.5 miles upstream of NC Highway 87 | •27
Honey Island Swamp:
At the confluence with Juniper Creek | •43
Approximately 1.3 miles upstream of Green Swamp Road Northwest | •59
Hood Creek:
At the confluence with Cape Fear River | •13
Approximately 1.9 miles upstream of NC Highway 87 | •61
Hood Creek Tributary:
At the confluence with Hood Creek | •29
Approximately 300 feet upstream of Malmo Lake Road Northeast | •55
Jackeys Creek:
Approximately 0.3 mile downstream of NC 17 | •10
Just upstream of abandoned railroad | •17
Brunswick County (Unincorporated Areas), Town of Leland
Jackeys Creek Tributary:
At the confluence with Jackeys Creek | •16
Approximately 425 feet upstream of Lanvale Road Northeast | •39
Jinnys Branch:
Approximately 8,000 feet downstream of Bricklanding Road Southwest | •12
Approximately 0.6 mile downstream of Stone's Throw Drive Southwest | •26
Brunswick County (Unincorporated Areas)
Juniper Creek:
At the confluence with Waccamaw River | •35
Approximately 1,400 feet upstream of Camp Branch Road Northwest | •45
Leonard Branch:
At the confluence with Juniper Creek | •43
Approximately 0.6 mile upstream of Exum Road Northwest | •45
Lewis Branch:
At the confluence with Lewis Swamp | •20
Approximately 1.6 miles upstream of Lewis Swamp Road Northeast | •62
Lewis Swamp:
At the confluence with Town Creek | •14
Approximately 2.7 miles upstream of Beetree Farm Trail | •65
Lewis Swamp Tributary:
At the confluence with Lewis Swamp | •32
Approximately 1.5 miles upstream of the confluence with Lewis Swamp | •52
Liliput Creek:
Approximately 1,450 feet downstream of State Route 133 | •9
At the confluence with Allen Creek | •9
Little Cawcaw Swamp:
At the confluence with Cawcaw Swamp | •28
Approximately 2,200 feet upstream of U.S. Highway 17 | •34
Brunswick County (Unincorporated Areas), Town of Carolina Shores
Little Mallory Creek:
Approximately 100 feet downstream of State Route 133 | •9
Approximately 250 feet upstream of Wire Road | •21
Brunswick County (Unincorporated Areas)
Little Saucepan Creek:
At the confluence with Saucepan Creek | •12
Approximately 0.3 mile upstream of Pigott Road Southwest | •12
Livingston Creek:
Approximately 1.2 miles downstream of Columbus/Brunswick County border | •52
At Columbus/Brunswick County border | •59
Lockwoods Folly River:
At the confluence of Nucitt Branch | •9
At the confluence of Red Run/Pinch Gut Creek | •26
McKinzie Creek:
At the confluence with Allen Creek/McKinzie Pond | •9
Approximately 570 feet upstream of Funston Road Southeast | •24
Mercers Mill Pond:
At the confluence with Mill Creek | •11
Approximately 1.1 miles downstream of Southport Supply Road Southeast | •19
Middle River:
At the confluence with Fall Swamp | •19
Approximately 1.8 miles upstream of Little Macedonia Road Northwest | •48
Middle Swamp:
At the confluence with Midway Branch | •12
Approximately 0.7 mile upstream of Green Lewis Road Southeast | •41
Brunswick County (Unincorporated Areas), Town of Bolivia
Middle Swamp Tributary:
At the confluence with Middle Swamp | •24
Approximately 0.6 mile upstream of Knox Street | •44
Midway Branch:
At the confluence with Lockwoods Folly River | •12
Approximately 3.7 miles upstream of Midway Road Southeast | •45
Brunswick County (Unincorporated Areas)
Mill Branch into Juniper Creek:
At the confluence with Juniper Creek | •37
Approximately 0.5 mile upstream of Myrtlehead Road Northwest | •40
Mill Branch into Wet Ash Swamp:
At the confluence with Wet Ash Swamp | •40
Approximately 0.8 mile upstream of Big Neck Road Northwest | •56
Mill Creek (near Leland):
Approximately 0.8 mile upstream of the confluence with Sturgeon Creek | •8
Approximately 250 feet upstream of Post Office Road Northeast | •9
Brunswick County (Unincorporated Areas), Town of Leland, Town of Navassa
Mill Creek (near Winnabow):
At the confluence with Rice Creek | •10
Approximately 1.7 miles upstream of Old Mill Creek Road Southeast | •24
Brunswick County (Unincorporated Areas)
Morgan Creek:
Approximately 0.3 mile upstream of the confluence with Town Creek | •9
Approximately 0.8 mile upstream of Hewitt-Burton Road Southeast | •21
Brunswick County (Unincorporated Areas), Town of Leland
Muddy Branch:
At the confluence with Juniper Creek | •45
Approximately 1.0 mile upstream of Makatoka Road Northwest | •49
Brunswick County (Unincorporated Areas)
Mulberry Branch:
Approximately 1,500 feet upstream of North Mulberry Road Northwest | •18
Approximately 1.2 miles upstream of Mulberry Road Northwest | •30
Brunswick County (Unincorporated Areas), Town of Shallotte
Nancy's Creek:
At the confluence with Walden Creek | •8
Approximately 0.6 mile upstream of railroad crossing | •8
Brunswick County (Unincorporated Areas)
Nigis Creek:
At the confluence with Walden Creek | •8
Approximately 2.0 miles upstream of unnamed road | •26
Nucitt Branch:
At the confluence with Lockwoods Folly River | •9
Approximately 3,700 feet downstream of Clemmons Road Southeast | •18
Orton Creek:
Approximately 50 feet downstream of Plantation Road Southeast | •9
Approximately 1.5 miles upstream of NC 87 | •45
Pamlico Creek:
Approximately 0.5 mile upstream of the confluence with Lockwoods Folly River | •10
Approximately 200 feet downstream of Stanley Road Southwest | •19
Pinch Gut Creek:
At the confluence with Lockwoods Folly River | •26
Approximately 0.2 mile upstream of the confluence with Lockwoods Folly River | •26
Prices Creek:
At East Moore Street | •9
Approximately 1,750 feet upstream of East Leonard Street | •13
Brunswick County (Unincorporated Areas), City of Southport
Rattlesnake Branch:
At the confluence with Hood Creek | •14
Approximately 250 feet upstream of Saw Mill Road | •36
Brunswick County (Unincorporated Areas), City of Northwest
Read Branch:
At the confluence with Mill Branch | •37
Approximately 1.6 miles upstream of Myrtlehead Road Northwest | •41
Brunswick County (Unincorporated Areas)
Red Run:
Approximately 100 feet downstream of Galloway Road Northeast | •30
Approximately 1.0 mile upstream of Galloway Road Northeast | •38
Rice Creek:
Approximately 1.9 miles downstream of Governors Road Southeast | •9
At the confluence with Mill Creek (near Winnabow) | •10
River Swamp:
At the confluence with Midway Branch | •23
Approximately 2.0 miles upstream of the confluence with Midway Branch | •43
Royal Oak Swamp:
Approximately 150 feet downstream of U.S. Highway 17 Bypass | •9
Approximately 1.2 miles upstream of Royal Oak Road Northwest | •46
Russells Creek:
At the confluence with Town Creek | •9
Approximately 0.3 mile upstream of Irvine Trail Northeast | •47
Sand Hill Creek:
Approximately 0.8 mile upstream of the confluence with Cape Fear River | •9
Approximately 800 feet upstream of State Route 133 | •12
Scippio Swamp:
At the confluence with Waccamaw River | •27
Approximately 0.5 mile upstream of Russtown Road Northwest | •45
Scott Branch:
At the downstream side of Old Lennon Road Southeast | •9
Approximately 100 feet downstream of Southport Supply Road Southeast | •15
Shallotte River:
Approximately 1,900 feet upstream of U.S. Highway 17 | •12
Approximately 2.3 miles upstream of Ocean Isle Beach Road Southwest | •26
Brunswick County (Unincorporated Areas), Town of Shallotte
Sharron Creek:
Approximately 0.7 mile upstream of Gray Bridge Road Southwest | •10
Approximately 400 feet downstream of Holden Beach Road Southwest | •11
Brunswick County (Unincorporated Areas)South Prong Wet Ash Swamp:
At the confluence with Wet Ash Swamp | •40
Approximately 1.1 miles upstream of Big Neck Road | •56
The Mill Pond:
Approximately 50 feet downstream of Copas Road Southwest | •11
At Village Point Road Southwest | •22
Town Creek:
Approximately 600 feet downstream of the confluence with Russells Creek | •9
Approximately 2.6 miles upstream of Town Creek Road Northeast | •63
Turkey Branch:
At the confluence with Town Creek | •15
Approximately 0.5 mile upstream of Patrick Drive Northeast | •61
Waccamaw River:
At the State boundary | •25
At the confluence with Juniper Creek | •35
Walden Creek:
Approximately 0.4 mile downstream of the confluence with Governors Creek | •9
Approximately 0.6 mile upstream of the confluence with White Spring Creek | •8
Wet Ash Swamp:
At the confluence with Waccamaw River | •30
Approximately 0.8 mile upstream of NC Highway 130 | •40
White Spring Creek:
At the confluence with Walden Creek | •8
Approximately 100 feet downstream of railroad | •8
Williams Branch:
Approximately 150 feet downstream of Holden Beach Road Southwest | •10
Approximately 100 feet upstream of Lula Trail Southwest | •21
Brunswick County (Unincorporated Areas)
Maps available for inspection at the Brunswick County (Unincorporated Areas) Planning Department, 75 Courthouse Drive Northeast, Building I, Bolivia, North Carolina.
Village of Bald Head Island
Maps available for inspection at the Bald Head Island Town Hall, 106 Lighthouse Wynd, Bald Head Island, North Carolina.
City of Boiling Spring Lakes
Maps available for inspection at the Boiling Spring Lakes City Hall, 9 Boiling Spring Road, Boiling Spring Lakes, North Carolina.
Town of Bolivia
Maps available for inspection at the Bolivia Town Hall, 4050 Old Ocean Highway, Bolivia, North Carolina.
Town of Carolina Shores
Maps available for inspection at the Carolina Shores Town Hall, 200 Persimmon Road, Carolina Shores, North Carolina.
Town of Caswell Beach
Maps available for inspection at the Caswell Beach Town Hall, 1100 Caswell Beach Road, Caswell Beach, North Carolina.
Town of Holden Beach
Maps available for inspection at the Holden Beach Town Hall, 110 Rothschild Street, Holden Beach, North Carolina.
Town of Leland
Maps available for inspection at the Leland Town Hall, 102 Town Hall Drive, Leland, North Carolina.
Town of Navassa
Maps available for inspection at the Navassa Town Hall, 334 Main Street, Navassa, North Carolina.
City of Northwest
Maps available for inspection at the Northwest City Hall, 4889 Vernon Road, Leland, North Carolina.
Town of Oak Island
Maps available for inspection at the Oak Island Town Hall, 4601 East Oak Island Drive, Oak Island, North Carolina.
Town of Ocean Isle Beach
Maps available for inspection at the Ocean Isle Beach Town Hall, 3 West Third Street, Ocean Isle Beach, North Carolina.
Town of Shallotte
Maps available for inspection at the Shallotte Town Hall, 106 Cheers Street, Shallotte, North Carolina.
City of Southport
Maps available for inspection at the Southport Town Hall, 201 East Moore Street, Southport, North Carolina.
Town of St. James
Maps available for inspection at the St. James Town Hall, 3628 St. James Drive, Southport, North Carolina.
Town of Sunset Beach
Maps available for inspection at the Sunset Beach Town Hall, 700 Sunset Boulevard—North, Sunset Beach, North Carolina.
Columbus County (FEMA Docket Nos. D-7574 and D-7626)
Bay Branch:
At the confluence with Big Branch | •38
Approximately 1.1 miles upstream of Big Branch Road | •53
Columbus County (Unincorporated Areas)
Beaverdam Creek:
At the confluence with Waymans Creek | •22
At the Columbus/Bladen County boundary | •24
Columbus County (Unincorporated Areas), Town of Sandyfield
Beaverdam Swamp:
At the confluence with Monte Swamp | •48
Approximately 0.5 mile upstream of Chadbourn Clarendon Road | •95
Columbus County (Unincorporated Areas)
Big Branch:
At the confluence with Livingston Creek | •24
Approximately 1.2 miles upstream of the confluence with Bay Branch | •44
Big Branch into Beaverdam Swamp:
At the confluence with Beaverdam Swamp | •81
Approximately 900 feet downstream of Railroad | •104
Big Branch into Monte Swamp:
At the confluence with Monte Swamp | •38
Approximately 1.4 miles upstream of MM Ray Road | •47
Big Branch into Monte Swamp Tributary:
At the confluence with Big Branch into Monte Swamp | •44
Approximately 0.8 mile upstream of the confluence with Big Branch into Monte Swamp | •47
Big Branch into Western Prong Creek:
At the confluence with Western Prong Creek | •74
Approximately 1,700 feet upstream of Greens Mill Road | •90
Big Creek into Lake Waccamaw:
At the confluence with Lake Waccamaw | •43
Approximately 860 feet upstream of Old Lake Road | •56
Columbus County (Unincorporated Areas), Town of Lake Waccamaw
Big Creek into Marlow Branch:
At the upstream side of N.C. 905 | •27
Approximately 0.5 mile upstream of Big Avenue | •39
Columbus County (Unincorporated Areas)
Big Creek into Marlow Branch Tributary:
At the confluence with Big Creek into Marlow Branch | •28
Approximately 1.0 mile upstream of the confluence with Big Creek | •35
Big Cypress Swamp:
At the confluence with Seven Creeks | •30
Approximately 0.9 mile upstream of Ramsey Ford Road | •42
Big Freshwater Branch:
At the confluence with Gapway Swamp | •80
Approximately 1.0 mile upstream of Peanut Worely Road | •104
Big Pond Branch:
At the confluence with Beaverdam Swamp | •60
Approximately 500 feet upstream of Mary B. White Road | •85
Black Creek:
At the confluence with Grissett Swamp | •80
Approximately 1.0 mile upstream of South Joe Brown Highway | •99
Columbus County (Unincorporated Areas), Town of Tabor City
Boggy Branch:
At the confluence with Livingston Creek | •36
Approximately 700 feet upstream of the confluence with Chapel Creek | •50
Columbus County (Unincorporated Areas)
Boggy Branch:
At the confluence with Beaverdam Swamp and Monte Swamp | •48
Approximately 2.6 miles upstream of Old Tram Road | •56
Boggy Hill Branch:
At the confluence with Grissett Swamp | •80
Approximately 0.7 mile upstream of Old Stake Road | •90
Bogue Swamp:
Approximately 1.0 mile downstream of the confluence of Alligator Branch | •42
Approximately 0.8 mile upstream of Unnamed Road | •64
Brier Creek:
At the Columbus/Robeson County boundary | •85
Approximately 1.1 miles upstream of Haynes Lennon Highway | •101
Browders Branch:
At the confluence with Western Prong Creek | •70
Approximately 400 feet upstream of Jordan Road | •82
Brown Marsh Swamp:
At the upstream side of Red Hill Road | •70
At the confluence of Slades Swamp | •70
Brown Mill Branch:
At the confluence with Dunn Swamp | •77
Approximately 1.8 miles upstream of Williamsons
Crossroad | •95
Butler Branch:
At the confluence with Western Prong Creek | •64
At the downstream side of James B. White Highway | •71
Camp Swamp:
Approximately 920 feet downstream of the State boundary | •30
Approximately 1,200 feet downstream of Dulah Road | •44
Camp Swamp Tributary 1:
Approximately 960 feet downstream of the State boundary | •32
Approximately 1.7 miles upstream of Dothan Road | •41
Camp Swamp Tributary 2:
At the confluence with Camp Swamp | •32
At Dothan Road | •37
Cape Fear River:
At the Columbus/Brunswick County boundary | •16
At the Columbus/Bladen County boundary | •23
Cedar Branch into Soules Swamp:
At the confluence with Soules Swamp | •68
Approximately 250 feet upstream of Chadbourn Clarendon Road | •89
Cedar Branch into Beaverdam Swamp:
At the confluence with Beaverdam Swamp | •67
Approximately 200 feet upstream of Peacock Road | •83
Chapel Creek:
At the confluence with Boggy Branch | •50
Approximately 0.8 mile upstream of Connor Road | •60
Cow Branch:
At the downstream side of Princess Ann Road | •75
Approximately 0.7 mile upstream of Old Route 74 | •98
Cowpen Branch:
At the confluence with Bogue Swamp | •51
Approximately 700 feet upstream of Hallsboro Road | •57
Creek Branch:
At the confluence with Slap Swamp | •49
Approximately 0.4 mile upstream of East Andrew Jackson Highway | •56
Columbus County (Unincorporated Areas), Town of Lake Waccamaw
Crooked Run Branch:
At the confluence with Gapway Swamp | •77
At the State boundary | •89
Columbus County (Unincorporated Areas)
Curries Branch:
At the confluence with Butler Branch | •64
Approximately 1.3 miles upstream of James B. White Highway | •85
Dans Creek:
At the confluence with Livingston Creek | •29
Approximately 2.2 miles upstream of Byrdville Freeman Road | •49
Deep Branch:
At the State boundary | •27
Approximately 0.5 mile downstream of Savannah Road | •40
Double Branch:
At the confluence with Cape Fear River | •21
Approximately 1.6 miles upstream of the confluence with Cape Fear River | •23
Dunn Swamp:
At the confluence with Porter Swamp | •77
Approximately 0.9 mile upstream of Bird Cage Road | •93
Dunn Swamp Tributary 1:
At the confluence with Dunn Swamp | •84
Approximately 1.3 miles upstream of the confluence with Dunn Swamp | •90
Dunn Swamp Tributary 2:
At the confluence with Dunn Swamp | •86
Approximately 200 feet upstream of Braswell Road | •95
Dunn Swamp Tributary 3:
At the confluence with Dunn Swamp | •87
Approximately 400 feet upstream of Strawberry Boulevard | •95
Fivemile Branch:
At the confluence with Cedar Branch | •67
Approximately 400 feet downstream of Hubert White Road | •95
Friar Swamp:
At the confluence with Big Creek | •49
Approximately 1.4 miles upstream of Old Lake Road | •54
Gapway Creek:
At the confluence with Livingston Creek | •45
At the Columbus/Brunswick County boundary | •45
Gapway Swamp:
Approximately 300 feet downstream of Andrew Jackson Highway | •62
Approximately 1.3 miles upstream of Sidney Cherry Grove Road | •102
Green Branch:
At the confluence with Dunn Swamp | •80
Approximately 1.1 mile upstream of Brasswell Road | •94
Greenes Branch:
At the confluence with Western Prong Creek | •75
Approximately 0.6 mile upstream of Silver Spoon Road | •91
Griffith Branch:
At the confluence with White Marsh | •54
Approximately 0.4 mile upstream of confluence with White Marsh | •56
Columbus County (Unincorporated Areas), City of Whiteville
Grissett Swamp:
At the confluence with Seven Creeks | •30
Approximately 0.8 mile upstream of Emerson Church Road | •96
Grissett Swamp Tributary:
At the confluence with Grissett Swamp | •81
Approximately 1.2 miles upstream of Emerson Church Road | •102
Columbus County (Unincorporated Areas)
Gum Swamp:
At the confluence with Monte Swamp | •44
Approximately 0.5 mile upstream of Old Stake Road | •101
Honey Island Swamp:
At the confluence with Juniper Creek | •43
At Brunswick/Columbus border | •54
Horsepen Branch:
At the Columbus/Robeson County boundary | •89
At the Columbus/Bladen County boundary | •89
Huggins Creek:
Approximately 70 feet downstream of the State boundary | •87
Approximately 1,700 feet upstream of Swamp Fox Highway East | •98
Ironhill Branch:
At the confluence with Toms Fork | •48
Approximately 0.4 mile upstream of Reynolds Road | •73
Ironhill Branch Tributary:
At the confluence with Ironhill Branch | •65
Approximately 0.6 mile upstream of Kenny Jordan Road | •73
Jockey Branch:
At the confluence with Bogue Swamp | •46
Approximately 0.6 mile upstream of South Hallsboro Road | •53
Johns Branch:
At the confluence with Livingston Creek | •30
Approximately 1.1 miles upstream of Reaves Road | •57
Juniper Creek into Soules Swamp
At the confluence with Soules Swamp | •73
At the downstream side of U.S. Route 74/76 | •91
Juniper Creek into Waccamaw River:
Approximately 2,300 feet upstream of the confluence with Waccamaw River | •37
Approximately 1,350 feet upstream of the confluence of Leonard Creek | •43
Juniper Swamp:
At the confluence with Grissett Swamp | •38
At the State boundary | •60
Lake Waccamaw:
Entire shoreline within community | •43
Lebanon Branch:
At the confluence with Beaverdam Swamp | •57
Approximately 0.4 mile upstream of James B. White Highway | •76
Little Freshwater Branch:
At the confluence with Big Freshwater Branch | •86
Approximately 0.9 mile upstream of the confluence with Big Freshwater Branch | •95
Livingston Creek:
At the confluence with Cape Fear River | •18
Approximately 100 feet downstream of the Columbus/Brunswick County boundary | •59
Long Branch into Brown Mill Branch:
At the confluence with Brown Mill Branch | •78
Approximately 1,030 feet upstream of the confluence with Brown Mill Branch | •79
Long Branch into Gapway Swamp:
At the confluence with Gapway Swamp | •79
Approximately 750 feet upstream of Coleman Cemetery Road | •94
Lynch Creek:
At the confluence with Livingston Creek | •18
Approximately 1.4 miles upstream of Cronly Road | •49
Main Line Canal:
At the confluence with Big Creek | •43
At South Green Swamp Road | •48
Columbus County (Unincorporated Areas), Town of Bolton
Marlow Branch:
At the upstream side of Seven Creeks Highway | •27
Approximately 1,450 feet upstream of Seven Creeks Highway | •39
Columbus County (Unincorporated Areas)
Mill Branch:
At the confluence with Big Branch | •25
Approximately 0.7 mile upstream of the confluence with Big Branch | •34
Mill Branch Swamp:
At the confluence with Gum Swamp | •59
At the downstream side of South Joe Brown Highway | •97
Mill Creek:
At the confluence with Dans Creek | •33
Approximately 1.3 miles upstream of Andrew Jackson Highway East | •61
Mill Creek 2:
At the confluence with Livingston Creek | •18
At the Columbus/Brunswick County boundary | •20
Mill Creek Tributary 1:
At the confluence with Mill Creek | •47
Approximately 1.6 miles upstream of the confluence with Mill Creek Tributary 3 | •63
Mill Creek Tributary 2:
At the confluence with Mill Creek Tributary 1 | •42
Approximately 0.5 mile upstream of the confluence with Mill Creek Tributary 1 | •58
Mill Creek Tributary 3:
At the confluence with Mill Creek Tributary 1 | •56
Approximately 0.5 mile upstream of the confluence with Mill Creek Tributary 1 | •60
Mollie Swamp:
At the confluence with Monte Swamp | •41
Approximately 0.5 mile upstream of Ed Ward Road | •50
Mollies Branch:
At the confluence with Soules Swamp | •57
Approximately 500 feet upstream of New Britton Highway | •69
Columbus County (Unincorporated Areas), City of Whiteville
Monte Swamp:
At the confluence with Grissett Swamp | •37
At the confluence of Beaverdam Swamp and Boggy Branch | •48
Columbus County (Unincorporated Areas)
Palmetto Branch:
At the confluence with Bogue Swamp | •45
Approximately 0.4 mile upstream of South Hallsboro Road | •51
Pine Log Branch:
At the confluence with Soules Swamp | •58
Approximately 2.6 miles upstream of Union Valley Road | •94
Columbus County (Unincorporated Areas), City of Whiteville
Poplar Branch:
At the confluence with Livingston Creek | •38
Approximately 1.6 miles upstream of Livingston Chapel Road | •62
Columbus County (Unincorporated Areas)
Porter Swamp:
At the upstream side of Homer Nance Road | •74
Approximately 0.7 mile upstream of the confluence of Water Branch | •92
Red Hill Swamp:
At the confluence with Western Prong Creek and White Marsh | •63
At the upstream side of Red Hill Road | •70
Rattlesnake Creek:
At the confluence with Spring Branch | •91
Approximately 500 feet downstream of State Road 242 | •106
Ricefield Branch:
At the confluence with Big Creek | •51
Approximately 200 feet downstream of Old Lake Road | •63
Ricefield Branch Tributary:
At the confluence with Ricefield Branch | •54
Approximately 1.5 miles upstream of the confluence with Ricefield Branch | •59
Richlands Branch:
At the confluence with Slap Swamp | •61
At the Columbus/Bladen County boundary | •73
Saespan Branch:
At the confluence with Friar Swamp | •50
At the Columbus/Bladen County boundary | •59
Sand Pit Branch:
At the confluence with Simmons Bay Creek | •33
Approximately 1.1 mile upstream of Happy Home Road | •41
Scott Branch:
At the confluence with Livingston Creek | •38
Approximately 0.1 mile downstream of Delco Prosper Road | •52
Seven Creeks:
Approximately 1.0 mile downstream of Seven Creeks Highway | •29
At the confluence of Big Cypress Swamp & Grissett Swamp | •30
Simmons Creek:
At the confluence with Grissett Swamp | •80
Approximately 250 feet upstream of Willoughby Road | •91
Columbus County (Unincorporated Areas), Town of Tabor City
Skeebo Branch:
At the confluence with Grissett Swamp | •70
Approximately 0.4 mile upstream of Will Inman Road | •86
Slap Branch:
At the confluence with Slap Swamp | •80
Approximately 0.4 mile upstream of the confluence of Reedy Branch | •87
Columbus County (Unincorporated Areas)
Slap Swamp:
At the confluence with Big Creek into Lake Waccamaw | •49
At confluence of Slap Branch | •80
Slap Swamp Tributary 1:
At the confluence with Slap Swamp | •51
Approximately 0.8 mile upstream of the confluence with Slap Swamp | •53
Slap Swamp Tributary 2:
At the confluence with Slap Swamp | •57
Approximately 1,990 feet upstream of Chauncey Town Road | •62
Spring Branch into Bogue Swamp:
At the confluence with Bogue Swamp | •57
Approximately 1.3 miles upstream of the confluence with Bogue Swamp | •69
Soules Swamp:
At the confluence with White Marsh Swamp | •51
Approximately 650 feet upstream of Railroad Avenue | •90
Columbus County (Unincorporated Areas), Town of Chadbourn, City of Whiteville
Spring Branch into Horsepen Branch:
At the confluence with Horsepen Branch | •89
At the confluence of Rattlesnake Creek | •91
Columbus County (Unincorporated Areas)
Sweet Water Branch:
At the confluence with Beaverdam Swamp | •67
Approximately 400 feet upstream of Sellers Town Road | •73
Tailor Branch:
At the confluence with Johns Branch | •35
Approximately 0.7 mile upstream of Ashford Malpass Lane | •62
Toms Fork:
At the confluence with Grissett Swamp | •45
Approximately 200 feet upstream of the State boundary | •70
Toms Fork Tributary:
At the confluence with Toms Fork | •66
Approximately 0.4 mile upstream of Cox Town Road | •80
Tributary to Toms Fork Tributary:
At the confluence with Toms Fork Tributary | •76
At the State boundary | •85
Town Canal:
At the confluence with Grissett Swamp | •70
Approximately 400 feet upstream of Elizabeth Street | •81
Columbus County (Unincorporated Areas), Town of Tabor City
Tributary to Dunn Swamp Tributary 2:
At the confluence with Dunn Swamp Tributary 2 | •92
Approximately 650 feet upstream of the confluence with Dunn Swamp Tributary 2 | •92
Columbus County (Unincorporated Areas)
Turkeypen Branch:
At the confluence with Waymans Creek | •26
At the Columbus/Bladen County boundary | •44
Town of Sandyfield
Turner Branch:
At the confluence with Waymans Creek | •22
At the confluence with Turner Branch Tributary | •29
Columbus County (Unincorporated Areas)
Turner Branch Tributary:
At the confluence with Turner Branch | •29
Approximately 0.2 mile downstream of Old Lake Road | •39
Uncles Branch:
At the confluence with Porter Swamp | •80
Approximately 0.5 mile upstream of Charles Ford Road | •94
Columbus County (Unincorporated Areas), Town of Cerro Gordo
Ward Branch into Simmons Bay Creek:
Approximately 1,000 feet upstream of confluence with Simmons Bay Creek | •34
Approximately 1,750 feet upstream of Manly Smith Road | •43
Columbus County (Unincorporated Areas)
Ward Branch into Slap Swamp:
At the confluence with Slap Swamp | •76
Approximately 200 feet upstream of Pocosin Road | •84
Waymans Creek:
At the confluence with Cape Fear River | •22
Approximately 0.2 mile downstream of Old Lake Road | •46
Columbus County (Unincorporated Areas), Town of Sandyfield
Welch Creek:
At the confluence with White Marsh | •61
Approximately 0.8 mile upstream of Burneys Mill Road | •83
Columbus County (Unincorporated Areas)
Western Prong Creek:
At the confluence with White Marsh | •63
Approximately 0.6 mile upstream of Red Store Road | •93
Whiskey Swamp:
At the confluence with Juniper Swamp | •40
Just downstream of Dothan Road | •63
White Oak Branch:
At the confluence with Bogue Swamp | •55
Approximately 1.3 miles upstream of the confluence with Bogue Swamp | •61
White Marsh:
Approximately 1.6 miles downstream of South Hallsboro Road | •42
At the confluence of Western Prong Creek and Red Hill Swamp | •63
Columbus County (Unincorporated Areas), City of Whiteville
Williams Branch:
At the confluence with Gum Swamp | •53
Approximately 0.5 mile upstream of John Ward Road | •67
Columbus County (Unincorporated Areas)
Wolf Trap Branch:
At the confluence with Porter Swamp | •74
Approximately 825 feet upstream of SW Andrew Jackson Highway | •90
Columbus County (Unincorporated Areas)
Town of Bolton
Maps available for inspection at the Bolton Town Hall, 221 9th Street, Bolton, North Carolina.
Town of Cerro Gordo
Maps available for inspection at the Cerro Gordo Town Hall, 36 West Railroad Street, Cerro Gordo, North Carolina.
Town of Chadbourn
Maps available for inspection at the Office of the Town Manager, 208 East First Street, Chadbourn, North Carolina.
Columbus County (Unincorporated Areas)
Maps available for inspection at the Columbus County Tax Office, 110 Courthouse Square, Whiteville, North Carolina.
Town of Lake Waccamaw
Maps available for inspection at the Office of the Building Inspector, 205 Flemington Drive, Lake Waccamaw, North Carolina.
Town of Sandyfield
Maps available for inspection at the Sandyfield Town Hall, 1795 Woodyard Road, Riegelwood, North Carolina.
Town of Whiteville
Maps available for inspection at the Whiteville City Hall, 317 South Madison Street, Whiteville, North Carolina.
Durham County (FEMA Docket No. D-7622)
Basin 18 Stream 13:
At the Durham/Wake County boundary | •319
Approximately 0.2 mile upstream of the Durham/Wake County boundary | •327
Durham County (Unincorporated Areas)
New Hope River:
At the Durham/Chatham county boundary | •238
At the confluence of Little Creek and New Hope Creek | •238
Little Creek:
At the confluence with New Hope River | •238
At U.S. 54 | •238
Durham County (Unincorporated Areas), City of Durham
New Hope Creek:
At the confluence with New Hope River | •238
Approximately 0.3 mile downstream of Old Chapel Hill Road | •247
Southwest Creek (Crooked Creek) [Cape Fear]:
At the downstream Chatham/Durham County boundary | •239
Approximately 750 feet upstream of Ebon Road | •350
Northeast Creek:
Approximately 1,300 feet east from the intersection of railroad along the Durham/Chatham County boundary | •239
Approximately 125 feet upstream of So-hi Drive | •304
Northeast Creek Tributary 2:
At the confluence with Northeast Creek | •286
Approximately 300 feet downstream of Moore Drive | •312
Durham County (Unincorporated Areas)
Third Fork Creek:
At the confluence with New Hope Creek | •238
Approximately 800 feet upstream of East Forest Hills Plaza | •312
City of Durham
Gum Creek:
At the confluence with New Hope Creek | •238
Approximately 450 feet downstream of Abron Drive | •254
Durham County (Unincorporated Areas), City of Durham
Burdens Creek:
At the confluence with Northeast Creek | •249
Approximately 0.6 mile upstream of East Cornwallis Road | •336
Northeast Creek North Prong:
At the confluence with Northeast Creek | •267
Approximately 0.2 mile upstream of NC Highway 55 | •332
City of Durham
Burdens Creek Tributary 4:
At the confluence with Burdens Creek | •278
Approximately 850 feet upstream of East Cornwallis Road | •346
Durham County (Unincorporated Areas)
Rocky Creek:
At the confluence with Third Fork Creek | •286
Approximately 100 feet upstream of South Briggs Avenue | •330
City of Durham
Morgan Creek
Approximately 1,000 feet downstream of Old Farrington Point Road | •238
At the Durham County/Town of Chapel Hill ETJ boundary | •247
Durham County (Unincorporated Areas)
Buffalo Creek (into Little River North Fork):
At the confluence with Little River North Fork | •476
Approximately 0.4 mile upstream of Bill Poole Road | •529
Buffalo Creek (into Little River):
At the confluence with Little River | •361
Approximately 1,000 feet upstream of Stagville Road | •431
Durham County (Unincorporated Areas)
Buffalo Creek Tributary 1:
At the confluence with Buffalo Creek (into North Fork Little River) | •494
Approximately 0.3 mile upstream of the confluence with Buffalo Creek (into North Fork Little River) | •538
Buffalo Creek Tributary 2:
At the confluence with Buffalo Creek (into North Fork Little River) | •524
At the Durham/Orange County boundary | •528
Cabin Branch:
At the confluence with Little River | •272
Approximately 500 feet upstream of Snow Hill Road | •272
City of Durham, Durham County (Unincorporated Areas)
Cabin Branch Tributary:
Approximately 450 feet upstream of Toredge Road | •279
Approximately 750 feet upstream of Snow Hill Road | •304
Durham County (Unincorporated Areas)
Camp Creek:
At the Durham/Granville County boundary | •428
Approximately 0.6 mile upstream of Red Mountain Road | •505
Town of Butner, Durham County (Unincorporated Areas)
Camp Creek Tributary 3:
At the confluence with Camp Creek | •469
Approximately 1,500 feet upstream of Red Mountain Road | •502
Durham County (Unincorporated Areas)
Camp Creek Tributary 4:
At the confluence with Camp Creek | •494
At the Durham/Person County boundary | •504
Chunky Pipe Creek:
At the confluence with Little Lick Creek | •268
Approximately 0.8 mile upstream of Valmet Drive | •311
City of Durham, Durham County (Unincorporated Areas)
Chunky Pipe Creek Tributary 1:
At the confluence with Chunky Pipe Creek | •268
Approximately 0.4 mile upstream of Brightwood Lane | •308
Chunky Pipe Creek Tributary 2:
At the confluence with Chunky Pipe Creek Tributary 1 | •289
Approximately 0.7 mile upstream of the confluence with Chunky Pipe Creek Tributary 1 | •336
Crooked Creek (into Eno River):
At the confluence with Eno River | •296
Approximately 0.4 mile upstream of Terry Road | •469
Southwest Creek Tributary (Crooked Creek Tributary 1):
At the confluence with Southwest Creek (Crooked Creek) | •256
Approximately 0.5 mile upstream of the confluence with Southwest Creek (Crooked Creek) | •282
Durham County (Unincorporated Areas)
Crooked Creek (into Eno River) Tributary 1:
At the confluence with Crooked Creek | •442
Approximately 1.3 miles upstream of Winkler Road | •596
Crooked Creek (into Eno River) Tributary 2:
At the confluence with Crooked Creek (into Eno River) | •393
Approximately 375 feet upstream of Milton Road | •482
Durham County (Unincorporated Areas), City of Durham
Crooked Creek Tributary 2A:
At the confluence with Crooked Creek (into Eno River) Tributary 2 | •428
Approximately 0.4 mile upstream of the confluence with Crooked Creek (into Eno River) Tributary 2 | •466
Durham County (Unincorporated Areas)
Deep Creek:
At the confluence with Flat River | •419
At the Durham/Person County boundary | •419
Dial Creek:
At the confluence with Flat River | •347
At the Durham/Person County boundary | •512
Ellerbe Creek:
Approximately 1,000 feet downstream of the railroad | •262
Approximately 150 feet upstream of the confluence of Ellerbe Creek Tributary 1 | •264
Ellerbe Creek Tributary 1:
At the confluence with Ellerbe Creek | •264
Approximately 0.9 mile upstream of the confluence of Ellerbe Creek Tributary 3 | •352
Ellerbe Creek Tributary 2:
At the confluence with Ellerbe Creek Tributary 1 | •281
Approximately 0.5 mile upstream of the confluence with Ellerbe Creek Tributary 1 | •310
Ellerbe Creek Tributary 3:
At the confluence with Ellerbe Creek Tributary 1 | •295
Approximately 1,500 feet upstream of the confluence with Ellerbe Creek Tributary 1 | •320
Ellerbe Creek Tributary 4:
At the confluence with Ellerbe Creek | •263
Approximately 1.2 miles upstream of the confluence with Ellerbe Creek | •329
Eno River:
At the confluence with Neuse River | •262
At the Durham/Orange County boundary | •367
City of Durham, Durham County (Unincorporated Areas)
Eno River Tributary:
At the confluence with Eno River | •277
Approximately 1 mile upstream of the confluence with Eno River Tributary 6 | •322
Eno River Tributary 1:
At the confluence with Eno River | •283
Approximately 100 feet upstream of Meriwether Drive | •330
Eno River Tributary 3:
At the confluence with Eno River | •333
Approximately 1,850 feet upstream of Kelvin Road | •524
Durham County (Unincorporated Areas)
Eno River Tributary 6:
At the confluence with Eno River Tributary | •280
Approximately 0.8 mile upstream of the confluence with Eno River Tributary | •322
Eno River Tributary 7:
At the confluence with Eno River Tributary | •280
Approximately 0.3 mile upstream of the confluence with Eno River Tributary | •297
Eno River Tributary Z:
Approximately 500 feet upstream of the confluence with Eno River | •346
Approximately 330 feet upstream of Center of I-85 | •486
City of Durham, Durham County (Unincorporated Areas)
Eno River Tributary 8:
At the confluence with Eno River Tributary | •285
Approximately 700 feet upstream of railroad | •305
Durham County (Unincorporated Areas)
Eno River Tributary 9:
At the confluence with Eno River | •327
Approximately 375 feet upstream of Umstead Road | •434
Durham County (Unincorporated Areas), City of Durham
Flat River:
At the confluence with Neuse River | •262
At the Durham/Person County boundary | •430
Durham County (Unincorporated Areas)
Flat River Tributary 1:
At the confluence with Flat River | •264
Approximately 2.0 miles upstream of the confluence with Flat River | •320
Flat River Tributary 2:
At the confluence with Flat River | •268
Approximately 1.1 miles upstream of Jock Road | •400
Flat River Tributary 3:
At the confluence with Lake Michie/Flat River | •347
Approximately 0.4 mile upstream of Hampton Road | •448
Flat River Tributary 4:
At the confluence with Flat River | •347
Approximately 1,500 feet upstream of Quail Roost Road | •481
Flat River Tributary 4:
Approximately 1,500 feet upstream of Quail Roost Road | •481
Approximately 0.7 mile upstream of Quail Roost Road | •513
Flat River Tributary 5:
At the Durham/Person County boundary | •497
Approximately 1,000 feet upstream of the Durham/Person County boundary | •504
Flat River Tributary 6:
At the confluence with Flat River | •347
Approximately 500 feet upstream of Bahama Road | •499
Flat River Tributary 7:
At the confluence with Flat River | •392
Approximately 950 feet upstream of State Forest Road | •521
Flat River Tributary 8:
At the confluence with Flat River | •410
Approximately 0.9 mile upstream of the confluence with Flat River | •452
Durham County (Unincorporated Areas)
Goose Creek:
Approximately 1,000 feet upstream of the confluence with Ellerbe Creek | •293
Approximately 770 feet upstream of Liberty Street | •338
City of Durham
Goose Creek Tributary A:
At the confluence with Goose Creek | •314
Approximately 250 feet upstream of Liberty Street | •339
Goose Creek Tributary A Divergence:
At the confluence with Goose Creek | •306
At the Divergence from Goose Creek Tributary A | •314
Knap of Reeds Creek Tributary:
At the Durham/Granville County boundary | •265
Approximately 1.8 miles upstream of Old Oxford Highway | •376
Town of Butner
Knap of Reeds Creek Tributary 2:
At the confluence with Knap of Reeds Creek Tributary | •343
Approximately 0.6 mile upstream of the confluence with Knap of Reeds Creek Tributary | •399
Laurel Creek:
At the confluence with Falls Lake | •262
Approximately 2.0 miles upstream of Highway 98 | •352
Durham County (Unincorporated Areas)
Lick Creek:
Approximately 1,700 feet downstream of Wake Forest Highway/State Highway 98 | •262
Approximately 0.7 mile upstream of Southview Road | •271
Durham County (Unincorporated Areas)
Lick Creek Tributary 2:
At the confluence with Lick Creek | •262
Approximately 1.4 miles upstream of the confluence with Lick Creek | •315
Little Brier Creek:
At the Durham/Wake County boundary | •347
Approximately 0.9 mile upstream of the Durham/Wake County boundary | •372
Basin 18, Stream 16 (Little Brier Creek East):
At the Durham/Wake County boundary | •384
Approximately 1,000 feet upstream of Leesville Road | •457
Little Brier Creek Tributary 1:
At the confluence with Little Brier Creek (Basin 18, Stream 15) | •355
Approximately 0.6 mile upstream of confluence with Little Brier Creek (Basin 18, Stream 15) | •384
Little Brier Creek Tributary 2:
At the confluence with Little Brier Creek (Basin 18, Stream 15) | •372
Approximately 1,514 feet upstream of the confluence with Little Brier Creek (Basin 18, Stream 15) | •402
Little Lick Creek:
At the confluence with Neuse River | •262
Approximately 900 feet upstream of North Mineral Springs Road | •291
Little Lick Creek Tributary 1:
At the confluence with Little Lick Creek | •262
Approximately 1.1 miles upstream of the confluence with Little Lick Creek Tributary 2 | •299
Little Lick Creek Tributary 1A:
Approximately 1,250 feet upstream of the confluence with Little Lick Creek | •293
Approximately 200 feet upstream of Chandler Road | •318
City of Durham, Durham County (Unincorporated Areas)
Little Lick Creek Tributary 1B:
At the confluence with Little Lick Creek | •277
Approximately 200 feet upstream of Delmar Drive | •345
Little Lick Creek Tributary 3:
At the confluence with Little Lick Creek | •263
Approximately 0.7 mile upstream of Rogers Road | •296
Durham County (Unincorporated Areas)
Little Lick Creek Tributary 3A:
At the confluence with Little Lick Creek Tributary 3 | •286
Approximately 250 feet upstream of Rocky Creek Drive | •306
Little Lick Creek Tributary 4:
At the confluence with Little Lick Creek Tributary 1 | •269
Approximately 0.3 mile upstream of Patterson Road | •293
Little River:
At the confluence with Eno River | •269
Approximately 1,600 feet upstream of Highway 501 | •361
Little River North Fork:
Approximately 0.4 mile upstream of South Lowell Road | •473
At the Durham/Orange County boundary | •492
Little River Tributary 1:
Approximately 0.7 mile upstream of Guess Road | •473
Approximately 1.2 miles upstream of Hardwood Lane | •565
Little River Tributary 2:
At the confluence with Little River | •360
Approximately 1.7 miles upstream of the confluence with Little River | •423
Little River Tributary 3:
At the confluence with Little River | •361
Approximately 0.7 mile upstream of the confluence with Little River | •363
Little River Tributary 4:
At the confluence with Little River | •361
Approximately 100 feet upstream of Edsel Road | •516
Little River Tributary 4A:
At the confluence with Little River Tributary 4 | •432
Approximately 425 feet upstream of Milton Road | •481
Little River Tributary 5:
At the confluence with Little River Tributary 1 | •485
Approximately 0.2 mile upstream of Redpine Road | •536
Little River Tributary 6:
At the confluence with Little River Tributary 1 | •487
Approximately 0.7 mile upstream of Dunnegan Road | •543
Little River Tributary 7:
At the confluence with Little River Tributary 2 | •385
Approximately 0.5 mile upstream of the confluence with Little River Tributary 2 | •424
Martin Branch:
Approximately 750 feet upstream of the confluence with Lick Creek | •280
Approximately 80 feet downstream of Olive Branch Road | •307
Mountain Creek:
At the confluence with Little River | •361
Approximately 425 feet upstream of Highway 501 | •499
Mountain Creek Tributary 1:
At the confluence with Mountain Creek | •409
Approximately 0.7 mile upstream of the confluence with Mountain Creek | •476
Mountain Creek Tributary 2
At the confluence with Mountain Creek | •440
Approximately 0.5 mile upstream of the confluence with Mountain Creek | •499
Mountain Creek Tributary 2A:
At the confluence with Mountain Creek Tributary 2 | •450
Approximately 0.3 mile upstream of the confluence with Mountain Creek | •488
Tributary 2
Mountain Creek Tributary 3:
At the confluence with Mountain Creek | •444
Approximately 0.5 mile upstream of the confluence with Mountain Creek | •517
Mountain Creek Tributary 4:
At the confluence with Mountain Creek | •457
Approximately 0.8 mile upstream of the confluence with Mountain Creek | •509
Mountain Creek Tributary 4A:
At the confluence with Mountain Creek Tributary 4 | •466
Approximately 0.6 mile upstream of the confluence with Mountain Creek | •505
Tributary 4
Mountain Creek Tributary 5:
At the confluence with Mountain Creek | • 457
Approximately 500 feet upstream of Hopkins Road | • 513
Neuse River:
Approximately 300 feet upstream of the Durham/Granville County boundary | • 262
At the confluence of Eno River and Flat River | • 262
Little River North Fork Tributary 2:
At the confluence with Little River North Fork | • 474
At the Durham/Orange County boundary | • 505
Panther Creek (lower reach):
At the confluence of Falls Lake | • 262
Approximately 0.9 mile upstream of Falls Lake | • 267
Panther Creek Tributary 1:
At the confluence with Panther Creek | • 316
Approximately 0.6 mile upstream of the confluence with Panther Creek | • 368
Panther Creek Tributary 2:
At the confluence with Panther Creek Tributary 1 | • 316
Approximately 0.4 mile upstream of the confluence with Panther Creek Tributary 1 | • 361
Rocky Branch:
At the confluence with Lick Creek | • 263
Approximately 0.5 mile upstream of Kemp Road | • 302
Rocky Branch (near Falls Lake):
Approximately 1,000 feet downstream of Creech Road | • 263
Approximately 1.3 miles upstream of Creech Road | • 332
Rocky Creek:
At the confluence with Flat River/Lake Michie | • 347
Approximately 0.7 mile upstream of Range Road | • 424
Durham County (Unincorporated Areas), Town of Butner
Rocky Creek Tributary 1:
At the confluence with Rocky Creek | • 402
Approximately 500 feet upstream of Range Road | • 454
Rocky Creek Tributary 2:
At the confluence with Rocky Creek | • 408
Approximately 0.3 mile upstream of the confluence with Rocky Creek | • 445
Town of Butner
Rocky Branch Tributary 1:
At the confluence with Rocky Branch | • 298
Approximately 0.3 mile upstream of the confluence with Rocky Branch | • 322
Durham County (Unincorporated Areas)
Sevenmile Creek:
At the confluence with Eno River | • 336
Approximately 0.4 mile upstream of Bivins Road | • 558
City of Durham, Durham County (Unincorporated Areas)
Sevenmile Creek Tributary 1:
At the confluence with Sevenmile Creek | • 462
Approximately 0.5 mile upstream of Craig Road | • 596
Durham County (Unincorporated Areas)
Stirrup Iron Creek:
At the Durham/Wake County boundary | • 316
Approximately 150 feet downstream of Chin Page Road | • 325
City of Durham, Durham County (Unincorporated Areas)
Stirrup Iron Creek Tributary A-1:
Approximately 50 feet upstream of Lumley Road | • 365
Approximately 175 feet upstream of Cherry Blossom Drive | • 393
City of Durham
Stirrup Iron Creek Tributary B:
Approximately 1,500 feet downstream of the railroad | • 339
Approximately 550 feet upstream of Brunson Street | • 339
City of Durham, Durham County (Unincorporated Areas)
Stirrup Iron Creek Tributary B-1:
At the confluence with Stirrup Iron Creek Tributary B | • 359
Approximately 1,450 feet upstream of Weck Drive Tributary B | • 381
Durham County (Unincorporated Areas)
Stirrup Iron Creek Tributary C:
At the confluence with Stirrup Iron Creek | • 325
Approximately 2,000 feet upstream of the confluence with Stirrup Iron Creek | • 325
City of Durham, Durham County (Unincorporated Areas)
Stirrup Iron Creek Tributary D:
At the confluence with Stirrup Iron Creek | • 325
Approximately 1,500 feet upstream of Chin Page Road | • 357
Durham County (Unincorporated Areas), City of Durham
Sycamore Creek:
At the Durham/Wake County boundary | • 398
Approximately 1 mile upstream of Leesville Road | • 450
Durham County (Unincorporated Areas)
Warren Creek:
Approximately 300 feet upstream of the confluence with Eno River | • 298
Approximately 100 feet upstream of West Carver Street | • 386
City of Durham
Warren Creek Tributary 1:
At the confluence with Warren Creek | • 334
Approximately 200 feet downstream of Stadium Drive | • 339
Warren Creek Tributary A:
At the confluence with Warren Creek | • 314
Approximately 350 feet upstream of Hillandale Road | • 381
Durham County (Unincorporated Areas), City of Durham
Warren Creek Tributary B:
Approximately 900 feet upstream of the confluence with Warren Creek | • 313
Approximately 250 feet upstream of Hillendale Road | • 340
City of Durham
Town of Butner
Maps available for inspection at the Butner Town Hall, 205C West E Street, Butner, North Carolina.
City of Durham
Maps available for inspection at the City of Durham Public Works Department, Stormwater Services Division, 101 City Hall Plaza, Durham, North Carolina.
Durham County (Unincorporated Areas)
Maps available for inspection at the City of Durham Public Works Department, Stormwater Services Division, 101 City Hall Plaza, Durham, North Carolina.
TENNESSEE
Hardin County (FEMA Docket No. D-7612)
Tennessee River:
At approximately River Mile Marker 160 along the Decatur County line | • 388
Approximately 7.75 miles upstream of Pickwick Dam | • 419
City of Crump, City of Saltillo, City of Savannah, Hardin County (Unincorporated Areas)
Horse Creek:
At the confluence with the Tennessee River | • 395
Approximately 3,000 feet upstream of Airport Road | • 421
Hardin County (Unincorporated Areas)
City of Crump
Maps available for inspection at the Crump City Hall, 3020 Highway 64, Crump, Tennessee.
Hardin County (Unincorporated Areas)
Maps available for inspection at the Hardin County Courthouse, 465 Main Street, Savannah, Tennessee.
City of Saltillo
Maps available for inspection at the Saltillo City Hall, 160 Oak Street, Saltillo, Tennessee.
City of Savannah
Maps available for inspection at the Savannah City Hall, 140 Main Street, Savannah, Tennessee.

(Catalog of Federal Domestic Assistance No. 83.100, “Flood Insurance.”)
Dated: February 6, 2006.
David I. Maurstad,
Acting Director, Mitigation Division, Federal Emergency Management Agency, Department of Homeland Security.

[FR Doc. 06-1461 Filed 2-16-06; 8:45 am]

BILLING CODE 9110-12-P